INTERNATIONAL TRADE COMMISSION

[Investigation Nos. 731-TA-1374-1376 (Review)]

Citric Acid and Certain Citrate Salts From Belgium, Colombia, and Thailand

Determinations

On the basis of the record ¹ developed in the subject five-year reviews, the United States International Trade Commission (“Commission”) determines, pursuant to the Tariff Act of 1930 (“the Act”), that revocation of the antidumping duty orders on citric acid and certain citrate salts from Belgium, Colombia, and Thailand would be likely to lead to continuation or recurrence of material injury to an industry in the United States within a reasonably foreseeable time.

¹ The record is defined in § 207.2(f) of the Commission's Rules of Practice and Procedure (19 CFR 207.2(f)).

Background

The Commission instituted these reviews on June 1, 2023 (88 FR 35923) and determined on September 5, 2023 that it would conduct full reviews (88 FR 66052, September 26, 2023). Notice of the scheduling of the Commission's reviews and of a public hearing to be held in connection therewith was given by posting copies of the notice in the Office of the Secretary, U.S. International Trade Commission, Washington, DC, and by publishing the notice in the Federal Register on November 21, 2023 (88 FR 81099). Since the domestic interested parties submitted a request to cancel the hearing after no other party submitted a request to appear, the public hearing in connection with these reviews, scheduled for May 16, 2024, was cancelled (89 FR 44707).

The Commission made these determinations pursuant to section 751(c) of the Act (19 U.S.C. 1675(c)). It completed and filed its determinations in these reviews on July 16, 2024. The views of the Commission are contained in USITC Publication 5524 (July 2024), entitled Citric Acid and Certain Citrate Salts from Belgium, Colombia, and Thailand: Investigation Nos. 731-TA-1374-1376 (Review).

By order of the Commission.
Issued: July 16, 2024.
Lisa Barton,
Secretary to the Commission.

[FR Doc. 2024-15977 Filed 7-18-24; 8:45 am]

BILLING CODE 7020-02-P